ARCHITECTURAL AND TRANSPORTATION BARRIERS COMPLIANCE BOARD

Architectural and Transportation Barriers Compliance Board; Meetings

AGENCY: Architectural and Transportation Barriers Compliance Board.

ACTION: Notice of meetings.

SUMMARY: The Architectural and Transportation Barriers Compliance Board (Access Board) plans to hold its regular committee and Board meetings in Washington, DC, Monday through Wednesday, January 13-15, 2020, at the times and location listed below.

DATES: The schedule of events is as follows:

Monday, January 13, 2020

1:30 p.m.-2:30 p.m. Ad Hoc Committee on Frontier Issues

Tuesday, January 14, 2020

2:30 p.m.-3:00 p.m. Ad Hoc Committee on Design Guidance

3:00 p.m.-4:00 p.m. Updates on Onboard Wheelchair Guidance and Rail Vehicles Rulemaking (Closed)

Wednesday, January 15, 2020

9:30 a.m.-10:00 a.m. Budget Committee

10:00 a.m.-10:30 a.m. Planning and Evaluation

10:30 a.m.-11:00 a.m. Technical Programs

1:30 p.m.-3:00 p.m. Board Meeting

ADDRESSES: Meetings will be held at the Access Board Conference Room, 1331 F Street, NW, suite 800, Washington, DC 20004.

FOR FURTHER INFORMATION CONTACT: For further information regarding the meetings, please contact David Capozzi, Executive Director, (202) 272-0010 or capozzi@access-board.gov.

SUPPLEMENTARY INFORMATION: At the Board meeting scheduled on the afternoon of Wednesday, January 15, the Access Board will consider the following agenda items:

• Approval of Minutes: September 11, 2019; November 6, 2019—(vote)

• Ad Hoc Committee Reports: Design Guidance; Frontier Issues

• Planning and Evaluation Committee

• Technical Programs Committee

• Budget Committee

• Election Assistance Commission Report

• Executive Director's Report

• Public Comment (final 15 minutes of the meeting)

Members of the public can provide comments either in-person or over the telephone during the final 15 minutes of the Board meeting on Wednesday, January 15. Any individual interested in providing comment is asked to pre-register by sending an email to bunales@access-board.gov with the subject line “Access Board meeting—Public Comment” with your name, organization, state, and topic of comment included in the body of your email. All emails to register for public comment must be received by Wednesday, January 8. Commenters will be provided with a call-in number and passcode before the meeting. Commenters will be called on in the order by which they are pre-registered. Due to time constraints, each commenter is limited to two minutes. The Board will listen respectfully to comments; however, they will not engage in dialogue or answer questions. The purpose of the public comments is to hear the public's views. Commenters on the telephone will be in a listen-only capacity until they are called on.

All meetings are accessible to persons with disabilities. An assistive listening system, Communication Access Realtime Translation (CART), and sign language interpreters will be available at the Board meeting and committee meetings.

Persons attending Board meetings are requested to refrain from using perfume, cologne, and other fragrances for the comfort of other participants (see www.access-board.gov/the-board/policies/fragrance-free-environment for more information).

You may view the Wednesday, January 15, 2020 meeting through a live webcast from 1:30 p.m. to 3:00 p.m. at: www.access-board.gov/webcast.

David M. Capozzi,
Executive Director.

[FR Doc. 2019-28078 Filed 12-27-19; 8:45 am]

BILLING CODE 8150-01-P